DEPARTMENT OF ENERGY

Federal Energy Regulatory Commission

Combined Notice of Filings #1

Take notice that the Commission received the following electric rate filings:

Docket Numbers: ER11-4042-001.

Applicants: The Detroit Edison Company.

Description: The Detroit Edison Company submits tariff filing per 35: FERC Electric Rate Schedule No. 43—SFA Compliance Filing to be effective 9/28/2011.

Filed Date: 10/05/2011.

Accession Number: 20111005-5038.

Comment Date: 5 p.m. Eastern Time on Wednesday, October 26, 2011.

Docket Numbers: ER11-4469-001.

Applicants: Columbia Utilities Power, LLC.

Description: Columbia Utilities Power, LLC submits tariff filing per 35: Columbia Utilities Power FERC Electric Tariff to be effective 9/8/2011.

Filed Date: 10/05/2011.

Accession Number: 20111005-5029.

Comment Date: 5 p.m. Eastern Time on Wednesday, October 26, 2011.

Docket Numbers: ER12-23-000.

Applicants: Sierra Pacific Power Company.

Description: Sierra Pacific Power Company submits tariff filing per 35.13(a)(2)(i): Rate Schedule No. 27—Annual BPA-GTA Update 2011 to be effective 11/1/2011.

Filed Date: 10/05/2011.

Accession Number: 20111005-5000.

Comment Date: 5 p.m. Eastern Time on Wednesday, October 26, 2011.

Docket Numbers: ER12-25-000.

Applicants: Southwest Power Pool, Inc.

Description: Southwest Power Pool, Inc. submits tariff filing per 35.13(a)(2)(iii: Implement Formula Rate Updates for GRDA, LES and OPPD to be effective 8/1/2011.

Filed Date: 10/05/2011.

Accession Number: 20111005-5019.

Comment Date: 5 p.m. Eastern Time on Wednesday, October 26, 2011.

Docket Numbers: ER12-26-000.

Applicants: New York Independent System Operator, Inc.

Description: New York Independent System Operator, Inc. submits tariff filing per 35.13(a)(2)(iii: NYISO proposed tariff revisions regarding dispute resolution provisions to be effective 12/4/2011.

Filed Date: 10/05/2011.

Accession Number: 20111005-5048.

Comment Date: 5 p.m. Eastern Time on Wednesday, October 26, 2011.

Docket Numbers: ER12-27-000.

Applicants: New York Independent System Operator, Inc.

Description: New York Independent System Operator, Inc. submits tariff filing per 35.13(a)(2)(iii: NYISO proposed ISO Agreement revisions regarding dispute resolution provisions to be effective 12/4/2011.

Filed Date: 10/05/2011.

Accession Number: 20111005-5052.

Comment Date: 5 p.m. Eastern Time on Wednesday, October 26, 2011.

Docket Numbers: ER12-28-000.

Applicants: Southwest Power Pool, Inc.

Description: Southwest Power Pool, Inc. submits tariff filing per 35.13(a)(2)(iii: Implement Formula Rate Updates for Midwest Energy, Inc. to be effective 9/1/2011.

Filed Date: 10/05/2011.

Accession Number: 20111005-5068.

Comment Date: 5 p.m. Eastern Time on Wednesday, October 26, 2011.

Docket Numbers: ER12-29-000.

Applicants: PPL EnergyPlus, LLC.

Description: PPL EnergyPlus, LLC submits tariff filing per 35: PPL EnergyPlus Compliance Tariff to be Effective March 1, 2010 to be effective 9/30/2010.

Filed Date: 10/05/2011.

Accession Number: 20111005-5070.

Comment Date: 5 p.m. Eastern Time on Wednesday, October 26, 2011.

Docket Numbers: ER12-30-000.

Applicants: BlueStar Energy Services Inc.

Description: BlueStar Energy Services Inc. submits tariff filing per 35.1: Baseline FERC Electric MBR Tariff Filing to be effective 10/5/2011.

Filed Date: 10/05/2011.

Accession Number: 20111005-5075.

Comment Date: 5 p.m. Eastern Time on Wednesday, October 26, 2011.

Docket Numbers: ER12-31-000.

Applicants: Southern California Edison Company.

Description: Southern California Edison Company submits tariff filing per 35.13(a)(2)(iii: SGIA WDT SERV SCE-SunEdison 1351 Railroad Ave. Corona Roof Top Solar Project to be effective 10/6/2011.

Filed Date: 10/05/2011.

Accession Number: 20111005-5082.

Comment Date: 5 p.m. Eastern Time on Wednesday, October 26, 2011.

Docket Numbers: ER12-32-000.

Applicants: Silver State Solar Power North, LLC.

Description: Silver State Solar Power North, LLC submits tariff filing per 35.12: Silver State North Initial Market-Based Rate Tariff to be effective 11/15/2011.

Filed Date: 10/05/2011.

Accession Number: 20111005-5092.

Comment Date: 5 p.m. Eastern Time on Wednesday, October 26, 2011.

Docket Numbers: ER12-33-000.

Applicants: Duke Energy Ohio, Inc., Duke Energy Kentucky, Inc., Midwest Independent Transmission System Operator, Inc.

Description: Duke Energy Ohio, Inc. submits tariff filing per 35.13(a)(2)(iii: 10-05-11 DEO/DEK Exit Fee Agreement to be effective 12/31/2011.

Filed Date: 10/05/2011.

Accession Number: 20111005-5093.

Comment Date: 5 p.m. Eastern Time on Wednesday, October 26, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2011.
Nathaniel J. Davis, Sr.,
Deputy Secretary.

[FR Doc. 2011-26861 Filed 10-17-11; 8:45 am]

BILLING CODE 6717-01-P